DEPARTMENT OF TRANSPORTATION

Federal Highway Administration

Environmental Impact Statement: Gulf and Bay Counties, Florida

AGENCY: Federal Highway Administration (FHWA), USDOT.

ACTION: Notice of intent.

SUMMARY: The FHWA is issuing this notice to advise the public that an environmental impact statement (EIS) will be prepared for a proposed highway project in Gulf and Bay Counties, Florida.

FOR FURTHER INFORMATION CONTACT: Mr. George Hadley, Environmental Programs Coordinator, Federal Highway Administration, 545 John Knox Road, Suite 200, Tallahassee, Florida 32303, Telephone: (850) 942-9650.

SUPPLEMENTARY INFORMATION: The FHWA, in cooperation with the Florida Department of Transportation, will prepare an EIS for a proposal to provide a new highway, known as the Gulf Coast Parkway, in the regional transportation network in Gulf and Bay Counties, Florida. The proposed improvements would connect U.S. 98 at CR 386 in Gulf County with U.S. 98 (Tyndall Parkway) in Springfield and U.S. 231 in Bay County, north of Panama City, utilizing a combination of existing roadway facilities and new roadway alignments. The distance of the proposed improvement is approximately 35 miles. The proposed highway would improve mobility and manage future traffic demand by providing additional infrastructure within the regional transportation network serving Bay and Gulf Counties. The proposed improvements would support economic development in Gulf County. The proposed highway would enhance regional connections to intermodal hubs (airports, seaports and the intermodal distribution center), would provide an alternate route to U.S. 98 through the Tyndall Air Force Base Reservation for national security purposes, and would be an additional route for hurricane evacuation.

Alternatives under consideration include (1) taking no action, and (2) 4-lane roadway alternatives on a combination of existing and new alignments. Letters describing the proposed action and soliciting comments will be sent to appropriate Federal, State, and local agencies, and to private organizations and citizens who have previously expressed interest in this proposal. A series of public meetings will be held in Gulf and Bay Counties between September 2007 and December of 2008. In addition, a public hearing will be held. Public notice will be given of the time and place of the meetings and hearing. The draft EIS will be made available for public and agency review and comment. A formal scoping meeting is planned in the project vicinity during the fall of 2007.

To ensure that a full range of issues related to the proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Issued on: October 25, 2007.
George B. Hadley,
Environmental Programs Coordinator, Tallahassee, Florida.

[FR Doc. E7-21508 Filed 10-31-07; 8:45 am]

BILLING CODE 4910-22-P